SECURITIES AND EXCHANGE COMMISSION

[Release No. IC-28134]

Notice of Applications for Deregistration Under Section 8(f) of the Investment Company Act of 1940

January 25, 2008.

The following is a notice of applications for deregistration under section 8(f) of the Investment Company Act of 1940 for the month of January 2008. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on February 19, 2008, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

For Further Information Contact: Diane L. Titus at (202) 551-6810, SEC, Division of Investment Management, Office of Investment Company Regulation, 100 F Street, NE., Washington, DC 20549-4041.

Zacks Series Trust

[File No. 811-9549]

Summary: Applicant seeks an order declaring that it has ceased to be an investment company. Applicant has never made a public offering of its securities and does not propose to make a public offering or engage in business of any kind.

Filing Dates: The application was filed on November 8, 2007, and amended on January 11, 2008.

Applicant's Address: 100 N. Riverside Plaza, Suite 2200, Chicago, IL 60606.

Van Kampen Income Trust

[File No. 811-5273]

Summary: Applicant, a closed-end investment company, seeks an order declaring that it has ceased to be an investment company. On June 25, 2007, applicant made a final liquidating distribution to its shareholders, based on net asset value. Expenses of $4,500 incurred in connection with the liquidation were paid by applicant.

Filing Date: The application was filed on December 14, 2007.

Applicant's Address: 522 Fifth Ave., New York, NY 10036.

BlackRock S&P 500 (R) Protected Equity Fund, Inc.

[File No. 811-9479]

Summary: Applicant, a closed-end investment company, seeks an order declaring that it has ceased to be an investment company. On November 21, 2007, applicant made a liquidating distribution to its shareholders, based on net asset value. Expenses of $37,425 incurred in connection with the liquidation were paid by BlackRock Advisors, LLC (“BlackRock”), applicant's investment adviser. On November 28, 2007, assets of $257,156, representing an amount due to applicant, and an offsetting liability in the same amount, representing monies advanced to applicant for distribution to shareholders by BlackRock, were transferred to BSP Liquidating Trust, resulting in applicant having no assets or liabilities as of that date.

Filing Date: The application was filed on December 19, 2007.

Applicant's Address: c/o BlackRock Advisors, LLC, 100 Bellevue Parkway, Wilmington, DE 19809.

USAA Mutual Fund, Inc.

[File No. 811-2429]

USAA Tax Exempt Fund, Inc.

[File No. 811-3333]

USAA Investment Trust

[File No. 811-4019]

Summary: Each applicant seeks an order declaring that it has ceased to be an investment company. On July 31, 2006, each applicant transferred its assets to USAA Mutual Funds Trust, based on net asset value. Expenses of $1,680,029, $272,077 and $650,851, respectively, incurred in connection with the reorganizations were paid by each applicant.

Filing Dates: The applications were filed on December 14, 2007.

Applicants' Address: 9800 Fredericksburg Rd., A-3-W, San Antonio, TX 78288.

Sit Mutual Funds Trust

[File No. 811-21447]

Summary: Applicant seeks an order declaring that it has ceased to be an investment company. On July 31, 2007, applicant transferred its assets to Sit Tax-Free Income Fund, a series of Sit Mutual Funds II, Inc., based on net asset value. Expenses of $22,795 incurred in connection with the reorganization were paid by Sit Investment Associates, Inc., applicant's investment adviser.

Filing Dates: The application was filed on November 8, 2007, and amended on January 7, 2008.

Applicant's Address: Sit Mutual Funds, 3300 IDS Center, 80 South 8th St., Minneapolis, MN 55402.

Mezzacappa Long/Short Fund, LLC

[File No. 811-21469]

Summary: Applicant, a closed-end investment company, seeks an order declaring that it has ceased to be an investment company. Applicant is not presently making a public offering of its securities and does not propose to make a public offering. Applicant will continue to engage in its regular business activities and will operate in reliance on section 3(c)(7) of the Act.

Filing Dates: The application was filed on November 21, 2007 and amended on December 21, 2007.

Applicant's Address: 630 Fifth Ave., New York, NY 10111.

MDT Funds

[File No. 811-21141]

Summary: Applicant seeks an order declaring that it has ceased to be an investment company. On November 17, 2006 and December 8, 2006, applicant transferred its assets to corresponding series of Federated MDT Series, based on net asset value. Expenses of approximately $1,358,297 incurred in connection with the reorganization were paid by Federated Investors, Inc., the parent of the surviving fund.

Filing Dates: The application was filed on November 13, 2007, and amended on December 21, 2007.

Applicant's Address: Federated Investors Tower, 5800 Corporate Dr., Pittsburgh, PA 15237-7010.

The Jhaveri Trust

[File No. 811-8974]

Summary: Applicant seeks an order declaring that it has ceased to be an investment company. Applicant is not currently making a public offering of its securities and does not propose to make a public offering. Applicant has fewer than one hundred beneficial owners and will continue to operate as a private investment vehicle in reliance on section 3(c)(1) of the Act.

Filing Dates: The application was filed on December 29, 2006, and amended on March 5, 2007, and January 24, 2008.

Applicant's Address: 27881 Clemens Rd., Westlake, OH 44145.

For the Commission, by the Division of Investment Management, pursuant to delegated authority.
Florence E. Harmon,
Deputy Secretary.

[FR Doc. E8-1687 Filed 1-30-08; 8:45 am]

BILLING CODE 8011-01-P